DEPARTMENT OF HEALTH AND HUMAN SERVICES

Centers for Disease Control and Prevention

Notice of Award of a Single-Source Cooperative Agreement To Fund the Government of Botswana

AGENCY: Centers for Disease Control and Prevention (CDC), Department of Health and Human Services (HHS).

ACTION: Notice.

SUMMARY: The Centers for Disease Control and Prevention (CDC), within the Department of Health and Human Services (HHS), announces the award of approximately $10,000,000, for Year 1 funding to the Government of Botswana (GOB). The award will strengthen GOB capacity to develop and implement programmatic activities that orient the Ministry of Health (MOH) towards ensuring ownership, accountability, and capacity to manage a sustained HIV national response, decrease TB/HIV morbidity and mortality, and improve capacity to effectively respond to emerging diseases of public health interest.

DATES: The period for this award will be September 30, 2023, through September 29, 2028. Funding amounts for years 2-5 will be set at continuation.

FOR FURTHER INFORMATION CONTACT: Lisa Esapa, Center for Global Health, Centers for Disease Control and Prevention, PO Box 90 Gaborone, Botswana, Telephone: +267 71337799, E-Mail: hww5@cdc.gov.

SUPPLEMENTARY INFORMATION: The single-source award will prioritize helping the Government of Botswana (GOB) to sustain epidemic control and build enduring capabilities for the Ministry of Health (MOH).

GOB is in a unique position to conduct this work, as it has the authority to lead and coordinate provision of HIV services in the country.

Summary of the Award

Recipient: Government of Botswana (GOB).

Purpose of the Award: The purpose of this award is to strengthen GOB capacity to develop and implement programmatic activities that orient the MOH towards ensuring ownership, accountability, and capacity to manage a sustained HIV national response, decrease TB/HIV morbidity and mortality, and improve capacity to effectively respond to emerging diseases of public health interest.

Amount of Award: The approximate year 1 funding amount will be $10,000,000 in Federal Fiscal Year (FFY) 2023 funds, subject to the availability of funds. Funding amounts for years 2-5 will be set at continuation.

Period of Performance: September 30,2023 through September 29, 2028.

Authority: This program is authorized under Public Law 108-25 (the United States Leadership Against HIV AIDS, Tuberculosis and Malaria Act of 2003).

Dated: March 16, 2023.
Terrance Perry,
Chief Grants Management Officer, Centers for Disease Control and Prevention.

[FR Doc. 2023-05821 Filed 3-21-23; 8:45 am]

BILLING CODE 4163-18-P